ENVIRONMENTAL PROTECTION AGENCY

40 CFR Part 70

[CA 110-OPPb; FRL-7602-8]

Revisions to the Operating Permits Program, San Diego County Air Pollution Control District

AGENCY: Environmental Protection Agency (EPA).

ACTION: Proposed rule.

SUMMARY: EPA is proposing to approve revisions to the San Diego County Air Pollution Control District's Part 70 Operating Permits (Title V) Program. The proposed revisions address a change in the major source threshold for volatile organic compounds (VOCs) and oxides of nitrogen (NOX). This change is based on the redesignation of San Diego County as in attainment of the federal one-hour ozone standard (see 68 FR 37976, June 26, 2003). As a result of this action, some sources that would have previously been considered major sources, and therefore would have been required to obtain a Title V operating permit, would no longer need to apply for a Title V permit. We are also approving revisions to several other parts of San Diego's Title V program. For more information see “What is being addressed in this document,” below.

DATES: Any comments on this proposal must arrive by January 28, 2004.

ADDRESSES: Send comments to Gerardo Rios, Permits Office Chief (AIR-3), U.S. Environmental Protection Agency, Region IX, 75 Hawthorne Street, San Francisco, CA 94105-3901 or e-mail to rios.gerardo@epa.gov, or submit comments at http://www.regulations.gov.

You can inspect copies of the submitted rule revisions, EPA's technical support document (TSD), and public comments at our Region IX office during normal business hours by appointment.

FOR FURTHER INFORMATION CONTACT: Kathleen Stewart, EPA Region IX, (415) 947-4119, stewart.kathleen@epa.gov.

SUPPLEMENTARY INFORMATION: This proposal addresses the following Rules: 1401(c); 1410(i), (j), (l), and (q); 1418(b), (c), and (e); 1415 (a); 1421(a) and (b); and 1425(a) and (b). In the Rules and Regulations section of this Federal Register, we are approving these rules in a direct final action without prior proposal because we believe these revisions are not controversial. If we receive adverse comments, however, we will publish a timely withdrawal of the direct final rule and address the comments in a subsequent action based on this proposed rule. Please note that if we receive adverse comment on an amendment, paragraph, or section of this rule and if that provision may be severed from the remainder of the rule, we may adopt as final those provisions of the rule that are not the subject of an adverse comment.

We do not plan to open a second comment period, so anyone interested in commenting should do so at this time. If we do not receive adverse comments, no further activity is planned. For further information, please see the direct final action.

Dated: December 15, 2003.
Keith Takata,
Acting Regional Administrator, Region IX.

Part 70, Chapter I, Title 40 of the Code of Federal Regulations is amended as follows:

PART 70—[AMENDED]

1. The authority citation for part 70 continues to read as follows:

Authority: 42 U.S.C. 7401 et seq.

Subpart F—California

2. Appendix A to Part 70 is amended by adding under “California” paragraph (x) to read as follows:

Appendix A to Part 70—Approval Status of State and Local Operating Permits Programs

* * * * *

California

* * * * *

(x) * * *

(5) Revisions were submitted on August 19, 2003, effective February 27, 2004.

* * * * *

[FR Doc. 03-31871 Filed 12-24-03; 8:45 am]

BILLING CODE 6560-50-P